DEPARTMENT OF COMMERCE

Foreign-Trade Zones Board

[Docket 8-2002]

Foreign-Trade Zone 181—Akron/Canton, OH; Application for Expansion

An application has been submitted to the Foreign-Trade Zones Board (the Board) by the Northeast Ohio Trade & Economic Consortium (NEOTEC), grantee of FTZ 181, requesting authority to expand its zone in the Akron/Canton, Ohio area, within and adjacent to the Cleveland Customs port of entry. The application was submitted pursuant to the provisions of the Foreign-Trade Zones Act (19 U.S.C. 81a-81u), and the regulations of the Board (15 CFR part 400). It was formally filed on January 30, 2002.

FTZ 181 was approved by the Board on December 23, 1991 (Board Order 546, 57 FR 41; 1/2/92). On March 13, 1998, the grant of authority was reissued to NEOTEC (Board Order 965, 63 FR 13837; 3/23/98). The zone was expanded in 1997 (Board Order 902, 62 FR 36044; 7/3/97), in 1998 (Board Order 968, 63 FR 16962; 4/7/98) and in 1999 (Board Order 1053, 64 FR 51291; 9/22/99). FTZ 181 currently consists of six sites (4,736 acres) in the Akron/Canton, Ohio, area:

Site 1 (152 acres)—within the 2,121-acre Akron-Canton Regional Airport (includes a temporary site (3 acres, expires 1/31/04) located at 8400 Port Jackson Avenue, Jackson Township;

Site 2 (1,236 acres)—within the Youngstown-Warren Regional Airport area, Trumbull County (includes four temporary sites (141 acres total, expire 1/31/04) located as follows: 40 acres within the airport industrial park; 50 acres within the Youngstown Commerce Park; 21 acres located at 3175-3375 Gilchrist Road, Mogadore, Ohio; and 30 acres within the Cuyahoga Falls Industrial Park, Cuyahoga Falls, Ohio;

Site 3 (124 acres, 2 parcels)—Columbiana County Port Authority port terminal facility (19 acres) on the Ohio River, 1250 St. George Street, East Liverpool, and the port authority's Leetonia Industrial Park (105 acres) State Route 344, Leetonia, Ohio;

Site 4 (840 acres)—Stark County Intermodal Facility, approximately one mile south of the City of Massillon, adjacent to State Route 21 in the southwestern corner of Stark County;

Site 5 (2,354 acres)—within the Mansfield Lahm Airport complex, located on State Route 13 at South Airport Road, Mansfield, some 50 miles west of Akron, including the airport facility's four industrial parks, airport fueling facilities, the 91-acre Gorman-Rupp facility as well as a temporary site (20 acres, expires 1/31/04) located at 1600 Terex Road, Hudson, Ohio; and,

Site 6 (30 acres)—Terminal Warehouse, Inc. facility, located at 1779 Marvo Drive, Summit County.

The applicant is now requesting authority to update, expand and reorganize the zone as described below. The proposal includes requests to reorganize the site plan and site designations, to extend zone status to parcels with temporary authority, to restore zone status to parcels located within the existing or proposed zone sites that had been deleted from the zone boundary in earlier changes, to expand existing sites, and to add two new industrial park sites.

Site 1 will be reorganized and expanded to include on a permanent basis the temporary sites at 8400 Port Jackson Avenue (3 acres), at 3175-3375 Gilchrist Road (21 acres), at the Cuyahoga Falls Industrial Park (30 acres), at the site at 1600 Terex Road (20 acres), and at the Terminal Warehouse facility at 1779 Marvo Drive, Summit County (30 acres). The applicant also requests to add two new industrial parks—the Ascot Industrial Park (190 acres) in the City of Akron, the Prosper Industrial Park (103 acres) in the City of Stow—and to reinstate the 9-acre parcel previously deleted from the City of Green at the Akron/Canton Airport. Overall, the reorganized Site 1 would cover 555 acres.

Site 2 will be reorganized and expanded to include on a permanent basis the temporary site (40 acres) located within the western portion of the 88-acre airport industrial park and the temporary site (50 acres) located within the western portion of the Youngstown Commerce Park. The application also requests the addition of a new industrial park (66 acres) located in Fowler Township, adjacent to the Kings Graves and Youngstown Kingsville Road and to reinstate the 120 acres located within the Youngstown Warren Regional Airport that were previously deleted in Trumbull County. The reorganized Site 2 would cover 1,371 acres.

Site 3: will be expanded to include the Columbiana County Port Authority Intermodal Industrial Park port facility (66 acres) in Wellsville, increasing the size of Site 3 from 124 to 190 acres.

Site 4: will be expanded to include three industrial park sites and 3 warehouse facilities as follows: an industrial park (91 acres) located on the southeast side of the City of Massillon, south of U.S. 30 and east of U.S. 62; a warehouse facility (12 acres) located at 8045 Navarre Road, S.W., Massillon; the Ford Industrial Park (40 acres), adjacent to the City of Canton, south of U.S. 30; a warehouse facility (18 acres) located at 2207 Kimball Road, S.E., Canton; the Sawburg Commerce Industrial Park (158 acres), Alliance; and the Detroit Diesel Corporation warehouse (38 acres) located at 515 11th Street, S.E., Canton, Ohio, increasing the size of Site 4 from 840 to 1,197 acres.

Site 5: will be modified to reinstate a parcel (13 acres) located at the Mansfield Airport Industrial Park in the city of Mansfield. The reorganized Site 5 would cover 2,347 acres.

New Site 6: will cover a parcel (43 acres) within the 143-acre Colorado Industrial Park, Lorain County.

New Site 7: will involve the Kinder-Morgan/Pinney Dock and Transport Company, Inc., facility (309 acres) located at 1149 East 5th Street, Ashtabula, Ohio.

No specific manufacturing requests are being made at this time. Such requests would be made to the Board on a case-by case basis.

In accordance with the Board's regulations, a member of the FTZ Staff has been designated examiner to investigate the application and report to the Board.

Public comment on the application is invited from interested parties. Submissions (original and 3 copies) shall be addressed to the Board's Executive Secretary at the address below. The closing period for their receipt is April 15, 2002. Rebuttal comments in response to material submitted during the foregoing period may be submitted during the subsequent 15-day period (to April 29, 2002).

A copy of the application and accompanying exhibits will be available for public inspection at each of the following locations:

Office of the Port Director, U.S. Customs Service, 6747 Engle Road, Middleburg Heights, OH 44130.

Office of the Executive Secretary, Foreign-Trade Zones Board, U.S. Department of Commerce, FCB—Suite 4100W 1099 14th St. NW, Washington, DC 20005.

Dated: February 1, 2002.
Dennis Puccinelli,
Executive Secretary.

[FR Doc. 02-3534 Filed 2-12-02; 8:45 am]

BILLING CODE 3510-DS-P